NATIONAL SCIENCE FOUNDATION

Comment Management; Notice of Establishment

The Director of the National Science Foundation has determined that the establishment of the Proposal Review Panel for Industrial Innovation is necessary and in the public interest in connection with the performance of duties imposed upon the National Science Foundation (NSF), by 42 U.S.C. 1861 et seq. This determination follows consultation with the Committee Management Secretariat, General Services Administration.

Name of Committee: Proposal Review Panel for Industrial Innovation (#28164).

Purpose: Advise the National Science Foundation on the merit of proposals of proposals requesting financial support for research and research-related activities under the purview of the Office of Industrial Innovation.

Responsible NSF Official: Kesh Narayanan, Office of Industrial Innovation, National Science Foundation, 4201 Wilson Boulevard, Arlington, VA 22230. Telephone: 703/292-8050.

Dated: February 8, 2006.
Susanne Bolton,
Committee Management Officer.

[FR Doc. 06-1301 Filed 2-10-06; 8:45 am]

BILLING CODE 7555-01-M